DEPARTMENT OF ENERGY

Federal Energy Regulatory Commission

[Project No. 2082-074]

PacifiCorp; Notice of Intent To Prepare an Environmental Assessment

On August 22, 2025, PacifiCorp filed a non-capacity application for Klamath Hydroelectric Project No. 2082. The project is located on the Klamath River and Fall Creek, in Klamath County, Oregon and Siskiyou County, California. The project occupies federal lands managed by the U.S. Bureau of Reclamation.

The applicant proposes to decommission and administratively remove the Fall Creek Development from the project license to facilitate conveyance of the decommissioned infrastructure and lands to the City of Yreka, California (City). The applicant proposes to cease power generation, disconnect the generating units from the power grid, drain the units of any fluids, and convey the decommissioned infrastructure and associated lands to the City for its own water supply purposes. No construction, development, or ground-disturbing activities are proposed. The proposed conveyance would not affect the California Department of Fish and Wildlife's (California DFW) hatchery operations at the Fall Creek Hatchery. Both Yreka and California DFW have water intakes in the tailrace canal that are used for water supply and fish hatchery operations, respectively, and support approval of PacifiCorp's amendment application.

On January 6, 2026, Commission staff issued public notice of the application and established a deadline for filing comments, motions to intervene, and protests by February 5, 2026. The Department of Interior filed a timely request to extend the comment period through February 27, 2026. On February 12, 2026, the Commission granted this request and reopened the comment period through February 27, 2026.

This notice identifies Commission staff's intention to prepare an environmental assessment (EA) under the National Environmental Policy Act (42 U.S.C. 4321 et seq.) for the project.¹ Commission staff plans to issue an EA by April 15, 2026. Revisions to the schedule may be made as appropriate. The EA will be issued for a 30-day comment period. All comments filed on the EA will be reviewed by staff and considered in the Commission's final decision on the proceeding.

¹ The unique identification number for documents relating to this environmental review is EAXX-019-20-000-1769181375.

For public inquiries and assistance with making filings such as interventions, comments, or requests for rehearing, contact the Office of Public Participation at (202) 502-6595 or OPP@ferc.gov.

Any questions regarding this notice may be directed to Diana Shannon at 202-502-6136 or diana.shannon@ferc.gov.

(Authority: 18 CFR 2.1)

Dated: February 19, 2026.
Debbie-Anne A. Reese,
Secretary.

[FR Doc. 2026-03666 Filed 2-23-26; 8:45 am]

BILLING CODE 6717-01-P